DEPARTMENT OF DEFENSE

Office of the Secretary

[Transmittal No. 22-26]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-26 with attached Policy Justification and Sensitivity of Technology.

Dated: June 10, 2024.
Aaron T. Siegel,
Alternate OSD Federal Register Liaison Officer, Department of Defense.

BILLING CODE 6001-FR-P

BILLING CODE 6001-FR-C

Transmittal No. 22-26

Notice of Proposed Issuance of Letter of Offer Pursuant to Section 36(b)(1) of the Arms Export Control Act, as amended

(i) Prospective Purchaser: Kingdom of Saudi Arabia

(ii) Total Estimated Value:

Major Defense Equipment * | $2.75 billion
Other | $0.30 billion
TOTAL | $3.05 billion

Funding Source: National Funds

(iii) Description and Quantity or Quantities of Articles or Services Under Consideration for Purchase:

Major Defense Equipment (MDE):

Three hundred (300) PATRIOT MIM-104E Guidance Enhanced Missile-Tactical Ballistic Missiles (GEM-T)

Non-MDE:

Also included are tools and test equipment; range and test programs; support equipment to include associated publications and technical documentation; training equipment; spare and repair parts; New Equipment Training; Transportation; Quality Assurance Team support; U.S. Government and contractor technical assistance; engineering, and logistics support services; Systems Integration and Checkout (SICO); field office support; International Engineering Services Program Field Surveillance Program; and other related elements of logistics and program support.

(iv) Military Department: Army (SR-B-ZAR)

(v) Prior Related Cases, if any: SR-B-JBV

(vi) Sales Commission, Fee, etc., Paid, Offered, or Agreed to be Paid: None

(vii) Sensitivity of Technology Contained in the Defense Article or Defense Services Proposed to be Sold: See Attached Annex

(viii) Date Report Delivered to Congress: August 2, 2022

* As defined in Section 47(6) of the Arms Export Control Act.

POLICY JUSTIFICATION

Saudi Arabia—PATRIOT MIM-104E Guidance Enhanced Missile-Tactical Ballistic Missiles (GEM-T)

The Kingdom of Saudi Arabia has requested to buy three hundred (300) PATRIOT MIM-104E Guidance Enhanced Missile-Tactical Ballistic missiles (GEM-T). Also included are tools and test equipment; range and test programs; support equipment to include associated publications and technical documentation; training equipment; spare and repair parts; New Equipment Training; Transportation; Quality Assurance Team support; U.S. Government and contractor technical assistance; engineering, and logistics support services; Systems Integration and Checkout (SICO); field office support; International Engineering Services Program Field Surveillance Program; and other related elements of logistics and program support. The total estimated cost is $3.05 billion.

This proposed sale will support the foreign policy goals and national security objectives of the United States by improving the security of a partner country that is a force for political stability and economic progress in the Gulf region.

The proposed sale will improve the Kingdom of Saudi Arabia's capability to meet current and future threats by replenishing its dwindling stock of PATRIOT GEM-T missiles. These missiles are used to defend the Kingdom of Saudi Arabia's borders against persistent Houthi cross-border unmanned aerial system and ballistic missile attacks on civilian sites and critical infrastructure in Saudi Arabia. These attacks threaten the well-being of Saudi, International, and U.S. citizens (approximately 70,000) residing in the Kingdom. The Kingdom of Saudi Arabia will have no difficulty absorbing these missiles into its armed forces.

The proposed sale of this equipment and support will not alter the basic military balance in the region.

The principal contractor will be Raytheon Corporation, Tewksbury, MA. The purchaser normally requests offsets. Any offset agreement will be defined in negotiations between the purchaser and the contractor.

Implementation of this proposed sale will not require the assignment of any additional U.S. Government or contractor representatives to the Kingdom of Saudi Arabia.

There will be no adverse impact on U.S. defense readiness as a result of this proposed sale.

Transmittal No. 22-26

Notice of Proposed Issuance of Letter of Offer Pursuant to Section 36(b)(1) of the Arms Export Control Act

Annex

Item No. vii

(vii) Sensitivity of Technology:

1. The PATRIOT MIM-104E Guidance Enhanced Missile-Tactical Ballistic Missile (GEM-T) is the latest in-production series of the highly successful Raytheon Patriot missile variants available to both U.S. forces and international customers. GEM-T deliveries to the U.S. Army began in 2006. This capability adds a low-noise oscillator for improved acquisition and tracking performance in clutter. The GEM-T missile provides an upgraded capability to defeat tactical ballistic missile (TBM), aircraft and cruise missile threats in complement to the PAC-3 missile.

2. The highest level of classification of defense articles, components, and services included in this potential sale is CONFIDENTIAL.

3. If a technologically advanced adversary were to obtain knowledge of the hardware and software elements, the information could be used to develop countermeasures or equivalent systems which might reduce system effectiveness or be used in the development of a system with similar or advanced capabilities.

4. A determination has been made that the Kingdom of Saudi Arabia can provide substantially the same degree of protection for the sensitive technology being released as the U.S. Government. This sale is necessary in furtherance of the U.S. foreign policy and national security objectives outlined in the Policy Justification.

5. All defense articles and services listed in this transmittal are authorized for release and export to the Kingdom of Saudi Arabia.

[FR Doc. 2024-12941 Filed 6-12-24; 8:45 am]

BILLING CODE 6001-FR-P